ENVIRONMENTAL PROTECTION AGENCY

[FRL-9121-9]

Public Water System Supervision Program Revision for the State of Oklahoma

AGENCY: United States Environmental Protection Agency (EPA).

ACTION: Notice of proposed approval.

SUMMARY: Notice is hereby given that the State of Oklahoma is revising its approved Public Water System Supervision Program adopting new regulations for the Lead and Copper Rule (LCR) Short-Term Regulatory Revisions and Clarifications, promulgated and published in the Federal Register at 72 FR 57782 on October 10, 2007. Oklahoma has adopted the LCR Short-Term Regulatory Revisions and Clarifications to strengthen the implementation of the LCR for more effective protection of public health by reducing exposure to lead in drinking water. EPA has determined that the proposed program revision submitted by Oklahoma for the LCR Short-Term Regulatory Revisions and Clarifications are no less stringent than the corresponding Federal regulations. Therefore, EPA proposes to approve these program revisions.

DATES: All interested parties may request a public hearing. A request for a public hearing must be submitted by April 5, 2010 to the Regional Administrator at the EPA Region 6 address shown below. Requests for a hearing may be denied by the Regional Administrator. However, if a substantial request for a public hearing is made by April 5, 2010, a public hearing will be held. If no timely and appropriate request for a hearing is received and the Regional Administrator does not elect to hold a hearing on his own motion, this determination shall become final and effective on April 5, 2010. Any request for a public hearing shall include the following information: the name, address, and telephone number of the individual, organization, or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8 a.m. and 4:30 p.m., Monday through Friday, at the following offices: Oklahoma Department of Environmental Quality, Water Quality Division, 707 N. Robinson, Oklahoma City, Oklahoma 73101-1677; and the EPA Region 6, Drinking Water Section (6WQ-SD), 1445 Ross Avenue, Suite 1200, Dallas, Texas 75202.

FOR FURTHER INFORMATION CONTACT: Amy Camacho, EPA Region 6, Drinking Water Section at the Dallas address given above or at telephone (214) 665-7175, or camacho.amy@epa.gov.

Authority: Section 1413 of the Safe Drinking Water Act, as amended (1996), and 40 CFR part 141 and 142 of the National Primary Drinking Water Regulations.

Dated: February 12, 2010.
Al Armendariz,
Regional Administrator, Region 6.

[FR Doc. 2010-4552 Filed 3-3-10; 8:45 am]

BILLING CODE 6560-50-P